DEPARTMENT OF COMMERCE

International Trade Administration

[A-351-840]

Notice of Request for Information and Extension of Time: Certain Orange Juice From Brazil

AGENCY: Import Administration, International Trade Administration, Department of Commerce.

EFFECTIVE DATE: January 25, 2005.

FOR FURTHER INFORMATION CONTACT: Elizabeth Eastwood or Jill Pollack, AD/CVD Operations, Office 2, Import Administration, International Trade Administration, U.S. Department of Commerce, 14th Street and Constitution Avenue, NW, Washington, DC 20230, telephone: (202) 482-3874 or (202) 482-4593.

SUPPLEMENTARY INFORMATION:

The Petition

On December 27, 2004, the Department of Commerce (the Department) received an antidumping duty petition (petition) filed by Florida Citrus Mutual, A. Duda & Sons, Inc. (doing business as Citrus Belle), Citrus World, Inc., Peace River Citrus Products, Inc., and Southern Garden Citrus Processing Corporation (doing business as Southern Gardens) (collectively “the petitioners”).

Scope of the Petition

The following language describes the imported merchandise from Brazil that the petitioners intend to be included in the scope of the investigation.

The product under investigation is certain orange juice for transport and/or further manufacturing, produced in two different forms: (1) Frozen orange juice in a highly concentrated form, sometimes referred to as frozen concentrated orange juice for further manufacturing (FCOJM); and (2) pasteurized single-strength orange juice which has not been concentrated, referred to as Not-From-Concentrate (NFC).

There is an existing antidumping duty order on frozen concentrated orange juice (FCOJ) from Brazil. See Antidumping Duty Order; Frozen Concentrated Orange Juice from Brazil, 52 FR 16426 (May 5, 1987). Therefore, the scope with regard to FCOJM covers only FCOJM produced and/or exported by those companies who were excluded or revoked from the existing antidumping order on FCOJ from Brazil as of December 27, 2004. Those companies are Cargill Citrus Limitada, Citrosuco Paulista S.A., Coopercitrus Industrial Frutesp, Frutropic, Montecitrus Industria e Comercio Limitada, and Sucocitrico Cutrale SA. Reconstituted orange juice and frozen orange juice for retail (FCOJR) are also excluded from the scope of the investigation. Reconstituted orange juice is produced through further manufacture of FCOJM, by adding water, oils and essences to the orange juice concentrate. FCOJR is concentrated orange juice, typically at 42◦ Brix, in a frozen state, packed in retail sized containers ready for sale to consumers. FCOJR, a finished consumer product, is produced through further manufacture of FCOJM, a bulk manufacturer's product.

The subject merchandise is currently classifiable under item 2009.11.00, 2009.12.25 and 2009.12.45, and 2009.19.00 of the Harmonized Tariff Schedule of the United States (HTSUS). These HTSUS subheadings are provided for convenience and for customs purposes only and are not dispositive, but rather the written description of the scope of this investigation is dispositive.

Domestic Like Product

Section 771(10) of the Tariff Act of 1930, as amended (the Act), defines the domestic like product as “a product which is like, or in the absence of like, most similar in characteristics and uses with the article subject to investigation.” Thus, the reference point from which the domestic like product analysis begins is “the article subject to investigation,” i.e., the class or kind of merchandise to be investigated, which normally will be the scope as defined in the petition.

Determination of Industry Support for the Petition

Section 732(b)(1) of the Act requires that a petition be filed on behalf of the domestic industry. Section 732(c)(4)(A) of the Act provides that the Department's industry support determination be based on whether a minimum percentage of the relevant industry supports the petition. A petition meets this requirement if the domestic producers or workers who support the petition account for: (1) At least 25 percent of the total production of the domestic like product; and (2) more than 50 percent of the production of the domestic like product produced by that portion of the industry expressing support for, or opposition to, the petition. Moreover, section 732(c)(4)(D) of the Act provides that, if the petition does not establish support of domestic producers or workers accounting for more than 50 percent of the total production of the domestic like product, the Department shall: (1) Poll the industry or rely on other information in order to determine if there is support for the petition, as required by subparagraph (A); or (2) determine industry support using a statistically valid sampling method to poll the industry.

Request for Information

In the instant case, we have received challenges to industry support from U.S. producers and need to determine the production quantities and levels of imports of U.S. producers, as well as the relationships between U.S. and foreign producers, in order to evaluate the calculation of industry support in the petition. Because the petition has not established that domestic producers or workers accounting for more than 50 percent of the total production of the domestic like product support the petition, we must “poll or otherwise determine industry support for the petition by the industry.”

In accordance with section 732(c)(4)(D) of the Act and in order to determine whether the petition establishes support of domestic producers or workers accounting for more than 50 percent of the total production of the domestic like product, we are hereby requesting that all domestic producer/manufacturers of certain orange juice submit to the Department a response to the questions posted on Import Administration's Web site: http://ia.ita.doc.gov.

Filing Requirements

Given the very short period in which we must determine industry support, the number of potential responses, and the fact that industry support may not be re-examined after initiation, we are waiving the filing requirements set forth in 19 C.F.R § 351.303 for certain parties submitting information on industry support. This waiver of the filing requirements will not apply to: 1) the submission of documents that are not in response to the information requested in this notice; or 2) parties that are familiar with the conduct of antidumping and countervailing proceedings through prior involvement in such proceedings (e.g., parties represented by law firms that are involved in other AD/CVD cases).

This limited waiver is applicable only until January 26, 2005, the deadline for submitting the information requested in this notice. This waiver is intended to expedite the receipt of information that is essential to our analysis of industry support by providing information on the production of the domestic like product by petitioning and non-petitioning companies. By avoiding delays in the receipt of such information, we will have more time to analyze whether the statutory requirements concerning industry support for the above-referenced petitions have been met.

All parties submitting any information must include the following statement in their response: “I, (name and title), currently employed by (person), certify that (1) I have read the attached submission, and (2) based on the information made available to me by (person), I have no reason to believe that this submission contains any material misrepresentation or omission of fact.” All information received by the Department will be treated as business proprietary information as outlined in our regulations (19 CFR 351.304-306), unless otherwise noted. Please note that all company names will be treated as public information. In addition, note that all business proprietary documents received by the Department in response to this notice will be served to those individuals with access to business proprietary information under the Administrative Protective Order (APO). All public documents may be made available to those parties on the public service list. The APO service lists and the public service lists are available on Import Administration's Web site: http://ia.ita.doc.gov.

Information submitted to the Department in response to this notice should be faxed to the following number: 202-482-4776. Furthermore, all such information will be placed on the official record of the proceeding. Responses to this notice are due no later than January 26, 2005. Responses after this date may not be reviewed by the Department and therefore, not included in the analysis.

Extension of Time

Section 732(c)(1)(A)(ii) of the Act provides that within 20 days of the filing of an antidumping duty petition, the Department will determine, inter alia, whether the petition has been filed by or on behalf of the U.S. industry producing the domestic like product. Section 732(c)(1)(B) provides that the deadline for the initiation determination can be extended by 20 days in any case in which the Department must “poll or otherwise determine support for the petition by the industry . . . .”

We will require additional information from the petitioners and the domestic producers of certain orange juice in order to make our determination regarding industry support and/or time to analyze the petitioners' responses to our requests for information. See the “Determination of Industry Support for the Petition” section of this notice, above. Therefore, it is necessary to extend the deadline for decision on initiation for a period not to exceed 40 days from the filing of the petition. As a result, the initiation determination is due no later than February 7, 2005.

International Trade Commission (ITC) Notification

Because the Department has extended the deadline of the initiation determination, the Department will contact the ITC and will make this extension notice available to the ITC.

Dated: January 18, 2005.
Joseph A. Spetrini,
Acting Assistant Secretary for Import Administration.

[FR Doc. 05-1355 Filed 1-24-05; 8:45 am]

BILLING CODE: 3510-DS-P